NUCLEAR REGULATORY COMMISSION

[Docket Nos. 50-317 and 50-318; NRC-2009-0321]

Calvert Cliffs Nuclear Power Plant, Inc.; Notice of Withdrawal of Application for Amendment to Facility Operating License

The U.S. Nuclear Regulatory Commission (the Commission) has granted the request of Calvert Cliffs Nuclear Power Plant, Inc. (the licensee) to withdraw its October 1, 2008, application for proposed amendment to Facility Operating License No. DPR-53 and DPR-69 for the Calvert Cliffs Nuclear Power Plant, Unit Nos. 1 and 2, located in Calvert County, Maryland.

The proposed amendments would introduce new license conditions requiring the reporting of reactor vessel (RV) inservice inspection (ISI) information and analyses as specified in Federal Register Notice (72 FR 56275) dated October 3, 2007, “Alternate Fracture Toughness Requirements for Protection Against Pressurized Thermal Shock Events.” These amendments were a required part of a code relief request, submitted by the licensee on October 1, 2008, to extend the RV ISI 10-year inspection interval for RV weld examinations.

The Commission had previously issued a Notice of Consideration of Issuance of Amendment published in the Federal Register on December 16, 2008 (73 FR 76409). However, by letter dated July 8, 2009, the licensee withdrew the proposed change.

For further details with respect to this action, see the application for amendment dated October 1, 2008, and the licensee's letter dated July 8, 2009, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 13th day of July 2009.
For the Nuclear Regulatory Commission.
Douglas V. Pickett,
Senior Project Manager, Plant Licensing Branch I-1, Division of Operating Reactor Licensing, Office of Nuclear Reactor Regulation.

[FR Doc. E9-17382 Filed 7-21-09; 8:45 am]

BILLING CODE 7590-01-P